DEPARTMENT OF TRANSPORTATION

Federal Aviation Administration

Notice of Passenger Facility Charge (PFC) Approvals and Disapprovals

AGENCY: Federal Aviation Administration (FAA), DOT.

ACTION: Monthly Notice of PFC Approvals and Disapprovals. In September 2014, there were two applications approved. Additionally, 21 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L.101-508) and Part 158 of the Federal Aviation Regulations (14 CFR part 158). This notice is published pursuant to paragraph d of § 158.29.

PFC Applications Approved

Public Agency: Jackson Municipal Airport Authority, Jackson, Mississippi.

Application Number: 14-06-C-00-JAN.

Application Type: Impose and use a PFC.

PFC Level: $4.50.

Total PFC Revenue Approved In This Decision: $38,832,254.

Earliest Charge Effective Date: September 1, 2015.

Estimated Charge Expiration Date: February 1, 2031.

Class Of Air Carriers Not Required To Collect PFC's: All air taxi/commercial operators filing FAA Form 1800-31 and operating at Jackson-Medgar Wiley Evers International Airport (JAN).

Determination: Approved. Based on information contained in the public agency's application, the FAA has determined that the approved class accounts for less than 1 percent of the total annual enplanements at JAN.

Brief Description Of Projects Approved For Collection And Use:

North roadway paving.

Terminal improvements.

Boiler plant modification engineering and construction.

Electrical vault improvements engineering and construction.

Replacement of fixed mounted boarding bridges at gates 2 and 16.

Interactive employee training system updates.

Airport entrance and terminal roadway system rehabilitation—engineering services.

PFC development and implementation.

Brief Description Of Projects Partially Approved For Collection And Use: Standby power engineering and construction.

Determination: Partially approved. The FAA determined that this project was only 67 percent eligible based on a pro-ration of the eligible versus ineligible areas served by the standby power system. In addition, the FAA determined that two other project components were not eligible for PFC funding.

Rehabilitation of aircraft aprons.

Determination: Partially approved. The PFC amount was reduced from that requested because, after the PFC application had been submitted, the public agency received additional, unplanned AIP funds to pay an additional portion of the project.

Rehabilitation of runway 16R/34L—engineering services.

Determination: Partially approved. The Project originally requested both engineering services and construction. However, the FAA found that the construction component of the project was not sufficiently described and so, did not approve that component.

Rehabilitation of taxiways A, B and C—engineering services.

Determination: Partially approved. The Project originally requested both engineering services and construction. However, the FAA found that the construction component of the project was not sufficiently described and so, did not approve that component.

Decision Date: September 2, 2014.

FOR FURTHER INFORMATION CONTACT: Brian Hendry, Jackson Airports District Office, (601) 664-9897.

Public Agency: Kent County Department of Aeronautics, Grand Rapids, Michigan.

Application Number: 14-06-C-00-GRR.

Application Type: Impose and use a PFC.

PFC Level: $4.50.

Total PFC Revenue Approved In This Decision: $2,214,234.

Earliest Charge Effective Date: January 1, 2023.

Estimated Charge Expiration Date: June 1, 2023.

Class Of Air Carriers Not Required To Collect PFC's: Air taxi/commercial operators filing FAA Form 1800-31.

Determination: Approved. Based on information contained in the public agency's application, the FAA has determined that the approved class accounts for less than 1 percent of the total annual enplanements at Gerald R. Ford International Airport.

Brief Description Of Project Approved For Collection And Use: Concourse and concession expansion.

Brief Description Of Project Partially Approved For Collection And Use: Consolidated security screening checkpoint—design only.

Determination: Partially approved. The approved amount is less than was originally requested for three reasons: (1) The public agency provided an updated cost estimate after submission of the application which showed reduced project costs; (2) the FAA determined that the project was only 44 percent, and not the 100 percent requested, eligible for PFC funding; and (3) the public agency modified its financing plan for this project after the air carrier consultation and public notice processes were complete but did not undertake new air carrier consultation and public notice processes.

Decision Date: September 4, 2014.

FOR FURTHER INFORMATION CONTACT: Irene Porter, Detroit Airports District Office, (734) 229-2915.

Amendments to PFC Approvals
Amendment No. city, state | Amendment approved date | Original approved net PFC revenue | Amended approved net PFC revenue | Original estimated charge exp. date | Amended estimated charge exp. date
07-03-C-03-HRL Harlingen, TX | 09/04/14 | $3,876,104 | 3,401,949 | 07/01/09 | 07/01/09
14-06-C-01-ILM Wilmington, NC | 09/05/14 | 7,947,596 | 7,972,225 | 08/01/24 | 08/01/24
02-05-C-01-CPR Casper, WY | 09/08/14 | 2,590,000 | 2,100,907 | 11/01/11 | 10/01/10
10-06-C-01-CPR Casper, WY | 09/08/14 | 300,545 | 282,017 | 08/01/14 | 03/01/12
07-05-C-01-ACY Egg Harbor Township, NJ | 09/10/14 | 5,416,359 | 5,416,159 | 06/01/09 | 04/01/09
03-05-C-02-AOO Martinsburg, PA | 09/10/14 | 208,710 | 186,055 | 12/01/11 | 12/01/11
11-08-C-02-AVP Avoca, PA | 09/10/14 | 5,036,660 | 4,805,475 | 11/01/20 | 11/01/20
07-01-C-01-CDC Cedar City, UT | 09/10/14 | 229,900 | 121,704 | 10/01/11 | 10/01/11
02-05-C-09-BGM Johnson City, NY | 09/16/14 | 1,953,941 | 1,111,784 | 07/01/05 | 07/01/05
03-06-C-05-BGM Johnson City, NY | 09/16/14 | 7,601 | 7,601 | 08/01/05 | 08/01/05
04-07-C-05-BGM Johnson City, NY | 09/16/14 | 559,849 | 425,339 | 04/01/04 | 07/01/05
04-07-C-06-BGM Johnson City, NY | 09/16/14 | 425,339 | 559,849 | 07/01/05 | 12/01/05
05-08-C-04-BGM Johnson City, NY | 09/16/14 | 889,771 | 961,270 | 02/01/08 | 02/01/08
06-09-C-02-BGM Johnson City, NY | 09/16/14 | 117,573 | 45,053 | 01/01/09 | 09/01/08
08-11-C-02-BGM Johnson City, NY | 09/16/14 | 165,264 | 164,927 | 09/01/12 | 09/01/12
09-12-C-02-BGM Johnson City, NY | 09/16/14 | 15,421 | 14,867 | 10/01/12 | 10/01/12
96-02-C-02-CAK Akron, OH | 09/18/14 | 1,841,810 | 1,681,807 | 03/01/98 | 03/01/98
98-03-C-02-CAK Akron, OH | 09/18/14 | 1,748,860 | 1,748,697 | 09/01/99 | 09/01/99
96-04-C-07-MCO Orlando, FL | 09/22/14 | 94,799,455 | 88,318,039 | 06/01/98 | 12/01/97
96-04-C-08-MCO Orlando, FL | 09/22/14 | 88,318,039 | 87,519,900 | 12/01/97 | 12/01/97
99-06-C-03-MCO Orlando, FL | 09/22/14 | 86,619,348 | 86,619,348 | 04/01/03 | 04/01/03

Issued in Washington, DC, on November 21, 2014.
Joe Hebert,
Manager, Financial Analysis and Passenger Facility Charge Branch.

[FR Doc. 2014-28239 Filed 12-1-14; 8:45 am]

BILLING CODE 4910-13-P